NUCLEAR REGULATORY COMMISSION

[Docket No. 40-8838; License No. SUB-1435; NRC-2014-0097]

Jefferson Proving Ground License Amendment Application for Source Materials License

AGENCY: Nuclear Regulatory Commission.

ACTION: Intent to prepare an environmental impact statement and conduct scoping process; public meeting and request for comment.

SUMMARY: The U.S. Army (Army) submitted a license amendment application, dated August 28, 2013, to the U.S. Nuclear Regulatory Commission (NRC), which included a Decommissioning Plan (DP) and an Environmental Report (ER). The Army submitted the DP and ER in support of its request that the NRC terminate Materials License SUB-1435 for the Depleted Uranium Impact Area at the Jefferson Proving Ground in Madison, Indiana, under restricted conditions.

The NRC, in accordance with the National Environmental Policy Act of 1969, as amended (NEPA), and the NRC's regulations, announces its intent to prepare an Environmental Impact Statement (EIS) to evaluate the potential environmental impacts of the proposed license termination and to conduct a scoping process for the EIS. The NRC invites and encourages members of the public to submit comments on the appropriate scope of issues to be considered in, and the content of the EIS.

DATES: Submit comments by December 18, 2014. Comments received after this date will be considered if it is practical to do so, but the NRC is able to ensure consideration only for comments received before this date.

In addition, the NRC will conduct a public scoping meeting in Madison, Indiana, to assist in defining the appropriate scope of the EIS, and to help identify the significant environmental issues that need to be addressed in detail. The meeting will be transcribed to record the NRC staff presentations and public comments. The meeting date, time, and location are listed below:

Meeting Date: December 3, 2014.

Meeting Time: 7:00 p.m. to 10:00 p.m. (In addition, the NRC staff will host informal discussions for 1 hour prior to the start of the public meeting.)

Meeting Location: The Livery Stable, 309 Broadway Street, Madison, Indiana 47250.

ADDRESSES: You may submit comments by any of the following methods (unless this document describes a different method for submitting comments on a specific subject):

• Federal Rulemaking Web site: Go to http://www.regulations.gov and search for Docket ID NRC-2014-0097. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Stephen Lemont, Office of Nuclear Material Safety and Safeguards, telephone: 301-415-5163, email: Stephen.Lemont@nrc.gov, U.S. Nuclear Regulatory Commission, Washington, DC 20555-0001.

SUPPLEMENTARY INFORMATION:

I. Obtaining Information and Submitting Comments

A. Obtaining Information

Please refer to Docket ID NRC-2014-0097 when contacting the NRC about the availability of information regarding this action. You may obtain information related to this action by any of the following methods:

• Federal Rulemaking Web site: Go to http://www.regulations.gov and search for Docket ID NRC-2014-0097.

• NRC's Agencywide Documents Access and Management System (ADAMS): You may obtain publicly-available documents online in the ADAMS Public Document collection at http://www.nrc.gov/reading-rm.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

• Jefferson County Public Library: Documents are also available for public viewing at the Madison Branch of the Jefferson County Public Library, located at 420 W. Main Street, Madison, Indiana 47250.

B. Submitting Comments.

Please include Docket ID NRC-2014-0097 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

A. Background

The NRC received, by letter dated August 28, 2013 (ADAMS accession number ML13247A549), the Army's application in support of its request to terminate Materials License SUB-1435 under restricted conditions, in accordance with section 20.1043 of Title 10 of the Code of Federal Regulations (10 CFR). Materials License SUB-1435 authorizes the licensee to possess depleted uranium (DU) ¹ at Jefferson Proving Ground (JPG), kept onsite in the restricted area known as the “Depleted Uranium Impact Area.”

¹ Depleted uranium (DU) is uranium with a percentage of the uranium-235 isotope lower than the 0.7 percent (by mass) contained in natural uranium. (The normal residual uranium-235 content in DU is 0.2-0.3 percent, with the uranium-238 isotope comprising the remaining 98.7-98.8 percent.)

JPG is located in Jefferson, Jennings, and Ripley Counties in southeastern Indiana. The DU Impact Area at JPG is located entirely within Jefferson County. JPG was established in 1941, and was used by the Army as a proving ground between 1941 and 1995 for the test firing of a wide variety of conventional munitions. A firing line with 268 fixed-gun positions was used to test munitions. Approximately 1.5 million rounds did not detonate upon impact, remaining as unexploded ordnance (UXO) either on or beneath the ground surface. An additional 3 to 5 million rounds with live detonators, primers, or fuzes remain onsite north of the firing line.

As part of its munitions testing program at JPG, the Army test fired DU projectiles into the DU Impact Area, which is also located north of the firing line. The DU proof test firings were conducted under NRC Materials License SUB-1435. The test firing of DU projectiles began on March 18, 1984, and concluded on May 2, 1994. Approximately 100,000 kilograms (kg) (220,462 pounds [lb]) of DU projectiles were fired at soft targets in the 8.4-square kilometer (km²) (2,080-acre [ac]) DU Impact Area. Approximately 26,500 kg (58,423 lb) of DU projectiles and projectile fragments were recovered during periodic surface sweeps of the DU Impact Area. Approximately 73,500 kg (162,040 lb) of DU remain in the DU Impact Area. Also, specifically within the DU Impact Area, a “very high” density of high-explosive UXO (i.e., 85 UXO/acre) is suspected by the Army to be present.

The U.S. Fish and Wildlife Service (FWS) established the Big Oaks National Wildlife Refuge (NWR) at JPG in the area north of the firing line in June 2000. Under a negotiated Memorandum of Agreement between the Army, U.S. Air Force, and FWS, the Army retains ownership of the land and FWS operates the NWR on a 25-year lease with 10-year renewal options. The Big Oaks NWR encompasses approximately 206 km² (51,000 ac), including the DU Impact Area. Access to approximately 97 km² (24,000 ac) of land is restricted by the FWS within the refuge primarily because of the occurrence of high levels of UXO, but also because of both UXO and DU in and near the DU Impact Area.

The Army submitted a DP and an ER to the NRC in support of its request to terminate Materials License SUB-1435. Specifically, the Army proposes to decommission the DU Impact Area at the JPG facility under restricted conditions, leaving the DU and UXO in place, while the Army continues to maintain institutional controls in the area north of the firing line at JPG (which includes the DU Impact Area), based on Army ownership of the land and the existence of DU and UXO. According to the Army, since the DU is commingled with UXO, cleanup of the DU would be both hazardous and expensive. Institutional controls include physical access restrictions to prevent unauthorized entry into the area (e.g., perimeter chain-link fence with pad locked chain-link fence gates, security warning signs placed around the property to caution persons not to enter), as well as legal controls (e.g., the Army as an agency of the Federal Government and an enduring entity retains property ownership of JPG north of the firing line) and administrative controls (e.g., restricted and limited public access and hunting prohibitions) over the DU Impact Area.

A notice of receipt of the application, solicitation of comments, and opportunity to request a hearing and petitions for leave to intervene was published in the Federal Register on April 28, 2014 (79 FR 23384). The NRC staff intends to prepare an EIS, to include conducting a scoping process, to evaluate the potential environmental impacts of the proposed action and alternatives to the proposed action.

B. Alternatives To Be Evaluated

The alternatives identified below will be evaluated in the EIS. Other alternatives not listed here may be identified through the scoping process.

No-Action—Under the no-action alternative, NRC Materials License SUB-1435 would remain in effect. Licensed material would remain in the DU Impact Area; the Army's semi-annual Environmental Radiation Monitoring program for surface soil, groundwater, surface water, and sediment and associated reporting would continue; and the Army's existing Radiation Safety Plan would continue to be implemented to minimize unauthorized entries into the DU Impact Area. The no-action alternative serves as a baseline for comparison with other alternatives.

Proposed Action—The proposed action is for the NRC to terminate Materials License SUB-1435 subject to the Army's commitments for institutional controls in the area north of the firing line at JPG, which includes the DU Impact Area. The material currently in the DU Impact Area would remain in place. Concurrent with license termination, the Army would discontinue implementation of its present Environmental Radiation Monitoring program.

C. Environmental Impact Areas To Be Analyzed

The following areas have been tentatively identified for detailed analysis in the EIS:

• Land Use: Plans, policies, and controls;

• Geology and Soils: Physical geography, topography, geology, and soil characteristics;

• Water Resources: Surface and groundwater hydrology, water use and quality, and the potential for degradation;

• Ecological Resources: Wetlands, aquatic and terrestrial, economically and recreationally; important species; and threatened and endangered species;

• Air Quality: Meteorological and climatological conditions, ambient background, pollutant sources, and the potential for degradation;

• Environmental Justice: Potential disproportionately high and adverse impacts to minority and low-income populations;

• Public and Occupational Health: Potential public and occupational health consequences from normal, expected case scenarios and abnormal or accidental scenarios; and

• Cumulative Effects: Potential impacts in the above areas resulting from the incremental impacts of the proposed action when added to the impacts of other past, present and reasonably foreseeable future actions at and near the site.

This list is not intended to be all inclusive, nor is it a predetermination of potential environmental impacts. The list is presented to facilitate comments on the scope of the EIS. Additions to, or deletions from, this list may occur as a result of the public scoping process. For example, additional areas for possible detailed consideration in the EIS may include one or more of the following: transportation, noise, historic and cultural resources, visual and scenic resources, socioeconomics, waste management.

D. Scoping Process and Scoping Meeting

The NRC encourages public involvement in the EIS process and solicits public comments on the scope and content of the EIS. Scoping is an early and open process designed to determine the range of issues, alternatives, and potential environmental impacts to be considered in the EIS and to identify the significant issues related to the proposed action. It is intended to solicit input from the public and governmental and private sector agencies/organizations so that the analysis can be more clearly focused on issues of genuine concern. The principal goals of the scoping process are to:

• Ensure that important issues and concerns are identified early and are properly studied;

• Identify alternatives to be examined;

• Identify significant issues to be analyzed;

• Eliminate unimportant issues from detailed consideration; and

• Identify public concerns.

In addition to submission of written comments as described in the ADDRESSES section of this notice, the NRC scoping process will include a transcribed public scoping meeting, to be held on December 3, 2014, at The Livery Stable in Madison, Indiana, to solicit both oral and written comments from interested parties. The meeting will convene at 7:00 p.m. and will continue until approximately 10:00 p.m. In addition, the NRC staff will host informal discussions for 1 hour prior to the start of the public meeting. No formal oral comments on the proposed scope of the EIS will be accepted during the informal discussions.

During the public meeting, a description of the NRC's role and mission and an overview of the license termination safety review process and of the environmental review process will be provided. Time will be allotted for attendees to make oral comments. To be considered, comments must be provided either at the transcribed public meeting or in writing.

Persons may register to attend or present oral comments at the scoping meeting by contacting Antoinette Walker-Smith at 301-415-6390, or by email to Antoinette.Walker-Smith@nrc.gov, no later than November 21, 2014. Members of the public may also register to attend or to speak at the meeting location prior to the start of the session. Individual oral comments may be limited by the time available, depending on the number of persons who register. Members of the public who have not registered may also have an opportunity to speak, if time permits. If special equipment or accommodations are needed to attend or present information at the public meeting, please contact Antoinette Walker-Smith no later than November 21, 2014, so that the NRC staff can determine whether the request can be accommodated.

At the conclusion of the scoping process, the NRC staff will prepare a summary of public comments regarding the scope of the environmental review and significant issues identified. The NRC staff will send this summary to each participant in the scoping process for whom the staff has an address. Also, this summary and other project-related material will be available for public review in ADAMS at http://www.nrc.gov/reading-rm/adams.html.

E. The NEPA Process

The EIS for the proposed JPG DU Impact Area license termination will be prepared pursuant to NEPA and the NRC's NEPA-implementing regulations at 10 CFR Part 51. After the scoping process is complete, the NRC staff will prepare a draft EIS. There will be a 45-day comment period on the draft EIS and a public meeting to receive comments. Availability of the draft EIS, the dates of the public comment period, and information about the public meeting will be announced in the Federal Register, the local news media, and the NRC Web site: (http://www.nrc.gov). The final EIS will be prepared based on consideration of any comments received on the draft EIS and will include responses to the comments received.

Dated at Rockville, Maryland, this 24th day of October, 2014.
For the Nuclear Regulatory Commission.
Marissa Bailey,
Director, Division of Fuel Cycle Safety, Safeguards, and Environmental Review, Office of Nuclear Material Safety and Safeguards.

[FR Doc. 2014-26060 Filed 10-31-14; 8:45 am]

BILLING CODE 7590-01-P